DEPARTMENT OF STATE

[Public Notice 10272]

Notice of Public Meeting

The Department of State will conduct an open meeting at 9:30 a.m. on Tuesday, February 13, 2018, at the headquarters of the Radio Technical Commission for Maritime Services (RTCM) in Suite 705, 1621 N. Kent Street, Arlington, Virginia 22209. The primary purpose of the meeting is to prepare for the 5th session of the International Maritime Organization's (IMO) Sub-Committee on Navigation, Communication, and Search and Rescue to be held at the IMO Headquarters, United Kingdom, from February 19-23, 2018.

The agenda items to be considered include:

—Decisions of other IMO bodies

—Routing measures and mandatory ship reporting systems

—Updates to the LRIT system

—Application of the “Indian Regional Navigation Satellite System (IRNSS)” in the maritime field and development of performance standards for shipborne IRNSS receiver equipment

—Guidelines for the harmonized display of navigation information received via communications equipment

—Guidelines on standardized modes of operation, S-mode

—Develop guidance on definition and harmonization of the format and structure of Maritime Service Portfolios (MSPs)

—Updating of the GMDSS master plan and guidelines on MSI (maritime safety information) provisions

—Consequential work related to the new Polar Code

—Revision of SOLAS chapters III and IV for Modernization of the Global Maritime Distress and Safety System (GMDSS), including related and consequential amendments to other existing instruments

—Response to matters related to the Radio communication ITU-R Study Group and ITU World Radio Communication Conference

—Measures to protect the safety of persons rescued at sea

—Developments in GMDSS satellite services

—Revised Performance Standards for EPIRBs operating on 406 MHz (resolution A.810(19)) to include Cospas-Sarsat MEOSAR and second generation beacons

—Further development of the provision of global maritime SAR services

—Guidelines on harmonized aeronautical and maritime search and rescue procedures, including SAR training matters

—Amendments to the IAMSAR Manual

—Unified interpretation of provisions of IMO safety, security, and environment-related conventions

—Biennial status report and provisional agenda for NCSR 6

—Election of Chair and Vice-Chair for 2019

Members of the public may attend this meeting up to the seating capacity of the room. To facilitate the building security process, and to request reasonable accommodation, those who plan to attend should contact the meeting coordinator, George Detweiler, by email at George.H.Detweiler@uscg.mil, by phone at (202) 372-1566, or in writing at 2703 Martin Luther King Jr. Ave. SE, Stop 7418, Washington, DC 20593-7418 not later than February 6, 2018, 7 days prior to the meeting. Requests made after February 6, 2018 might not be able to be accommodated. In the case of inclement weather where the U.S. Government is closed or delayed, a public meeting may be conducted virtually by calling (202) 475-4000 or 1-855-475-2447, Participant code: 887 809 72. The meeting coordinator will confirm whether the virtual public meeting will be utilized. Members of the public can find out whether the U.S. Government is delayed or closed by visiting www.opm.gov/status/.

Joel C. Coito,
Coast Guard Liaison Officer, Office of Ocean and Polar Affairs, Department of State.

[FR Doc. 2018-00795 Filed 1-17-18; 8:45 am]

BILLING CODE 4710-09-P